FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 1999F.

Name: Air Van Lines, Inc.

Address: PO. Box 3447, Bellevue, WA 98009.

Date Revoked: April 7, 2003.

Reason: Surrendered license voluntarily.

License Number: 2492NF.

Name: Deka Associates, Inc.

Address: One Clarence Place, Unit 8, San Francisco, CA 94107.

Date Revoked: February 14, 2003.

Reason: Failed to maintain valid bonds.

License Number: 4328N and 4328F.

Name: Demar Freight Forwarding Services, Inc.

Address: 888 North Central, Wood Dale, IL 60191.

Date Revoked: June 4, 2003 and April 27, 2003.

Reason: Failed to maintain valid bonds.

License Number: 4240F.

Name: Elite Freight Forwarders Inc.

Address: 9 Ridgewood Avenue, Glen Ridge, NJ 07208.

Date Revoked: June 12, 2003.

Reason: Failed to maintain a valid bond.

License Number: 16844N.

Name: Estes Express Lines, Inc.

Address: 3901 West Broad Street, Richmond, VA 23230-3962.

Date Revoked: January 7, 2003.

Reason: Surrendered license voluntarily.

License Number: 13692N.

Name: Gallagher Transport International, Inc.

Address: P.O. Box 39005, Denver, CO 80239.

Date Revoked: May 30, 2003.

Reason: Surrendered license voluntarily.

License Number: 3817F.

Name: Intracon Incorporated.

Address: 811 Banyan Drive, Elk Grove Village, IL 60007.

Date Revoked: June 17, 2003.

Reason: Failed to maintain a valid bond.

License Number: 17927N.

Name: J C Freight, Inc. dba JC Trans Freight.

Address: 1293 Johnson Drive, City of Industry, CA 91744.

Date Revoked: June 7, 2003.

Reason: Failed to maintain a valid bond.

License Number: 2889F.

Name: Jorge M. Hernandez dba Atlantic Cargo Services.

Address: 4995 NW. 72nd Avenue, Suite 205, Miami, FL 33166

Date Revoked: May 29, 2003.

Reason: Surrendered license voluntarily.

License Number: 1274F.

Name: Marante Forwarding Co., Inc.

Address: 4182 W 6th Avenue, Hialeah, FL 33012-3814.

Date Revoked: June 4, 2003.

Reason: Failed to maintain a valid bond.

License Number: 3702F.

Name: Midas Express, Inc.

Address: 950 Linden Avenue, South San Francisco, CA 94080.

Date Revoked: May 15, 2003.

Reason: Failed to maintain a valid bond.

License Number: 12295N.

Name: Ocean Concord (U.S.A.), Inc.

Address: 1111 Corporate Center Drive, Suite 204, Monterey Park, CA 91754.

Date Revoked: June 4, 2003.

Reason: Failed to maintain a valid bond.

License Number: 16683F.

Name: S & R Forwarding, Inc.

Address: 1191 East 51st Street, Brooklyn, NY 11234.

Date Revoked: June 7, 2003.

Reason: Failed to maintain a valid bond.

License Number: 17236N.

Name: Simpson's Shipping Enterprise.

Address: 166 West First Street, Mount Vernon, NY 10550.

Date Revoked: June 14, 2003.

Reason : Failed to maintain a valid bond.

Sandra L. Kusumoto,
Director, Bureau of Consumer Complaints and Licensing.

[FR Doc. 03-16631 Filed 7-1-03; 8:45 am]

BILLING CODE 6730-01-P